U.S. DEPARTMENT OF COMMERCE

Foreign-Trade Zones Board

Order No. 1655

Expansion of Foreign-Trade Zone 17, Kansas City, Kansas

Pursuant to its authority under the Foreign-Trade Zones Act of June 18, 1934, as amended (19 U.S.C. 81a-81u), the Foreign-Trade Zones Board (the Board) adopts the following Order:

Whereas, the Greater Kansas City Foreign-Trade Zone, Inc., grantee of Foreign-Trade Zone 17, submitted an application to the Board for authority to expand FTZ 17 in the Kansas City, Kansas, area, adjacent to the Kansas City Customs and Border Protection port of entry (FTZ Docket 16-2009, filed 4/13/2009);

Whereas, notice inviting public comment has been given in the Federal Register (74 FR 17953-17954, 4/20/2009) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 17 is approved, subject to the FTZ Act and the Board's regulations, including Section 400.28, and to the Board's standard 2,000-acre activation limit for the overall general-purpose zone project.

Signed at Washington, DC, this 18th day of December 2009.

Ronald K. Lorentzen,
Deputy Assistant Secretary for Import Administration, Alternate Chairman, Foreign-Trade Zones Board.
Attest:
Andrew McGilvray,
Executive Secretary.

[FR Doc. E9-31190 Filed 12-31-09; 8:45 am]

BILLING CODE 3510-DS-S